DEPARTMENT OF LABOR

Employment and Training Administration

[TA-W-52,803 and TA-W-52,803A]

Mastercraft Fabrics, LLC, Joan Fabrics Corporation, Norwood Yarn Sales, Norwood, NC; Mastercraft Fabrics, LLC, Joan Fabrics Corporation, Norwood Yarn Sales, Troy, NC; Amended Certification Regarding Eligibility To Apply for Worker Adjustment Assistance

In accordance with section 223 of the Trade Act of 1974 (19 U.S.C. 2273) the Department of Labor issued a Certification of Eligibility to Apply for Worker Adjustment Assistance on October 20, 2003, applicable to workers of Mastercraft Fabrics LLC, Norwood Yarn Sales, Norwood, North Carolina and Troy, North Carolina. The notice was published in the Federal Register on November 6, 2003 (68 FR 62834).

At the request of the company, the Department reviewed the certification for workers of the subject firm. The workers are engaged in the production of jacquard furniture fabric.

New information shows that Joan Fabrics Corporation is the parent firm of Mastercraft Fabrics LLC, Norwood Yarn Sales. Workers separated from employment at the subject firm had their wages reported under a separate unemployment insurance (UI) tax accounts for Joan Fabrics Corporation.

Accordingly, the Department is amending the certification to properly reflect this matter.

The intent of the Department's certification is to include all workers of Mastercraft Fabrics LLC, Norwood Yarn Sales, Norwood North Carolina and Troy, North Carolina who were adversely affected by a shift in production of jacquard furniture fabric to Mexico.

The amended notice applicable to TA-W-52,803 and TA-W-52,803A are hereby issued as follows:

All workers of Mastercraft Fabrics LLC, Joan Fabrics Corporation, Norwood Yarn Sales, Norwood, North Carolina (TA-W-52,803) and Mastercraft Fabrics LLC, Joan Fabrics Corporation, Norwood Yarn Sales, Troy, North Carolina (TA-W-52,803A), who became totally or partially separated from employment on or after August 11, 2002, through October 20, 2005, are eligible to apply for adjustment assistance under section 223 of the Trade Act of 1974.

Signed in Washington, DC this 15th day of June 2004.
Elliott S. Kushner,
Certifying Officer, Division of Trade Adjustment Assistance.

[FR Doc. 04-14792 Filed 6-29-04; 8:45 am]

BILLING CODE 4510-30-P